DEPARTMENT OF THE TREASURY

Submission for OMB Review; Comment Request

October 28, 2014.

The Department of the Treasury will submit the following information collection requests to the Office of Management and Budget (OMB) for review and clearance in accordance with the Paperwork Reduction Act of 1995, Public Law 104-13, on or after the date of publication of this notice.

DATES: Comments should be received on or before December 1, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

Alcohol and Tobacco Tax and Trade Bureau (TTB)

OMB Number: 1513-0018.

Type of Review: Revision of a currently approved collection.

Title: Application for Basic Permit under the Federal Alcohol Administration Act.

Form: TTB F 5100.24.

Abstract: TTB Form 5100.24 is an application for a basic permit under the Federal Alcohol Administration Act (27 U.S.C. 201 et seq.) (FAA Act). Section 103 of the FAA Act (27 U.S.C. 203) requires that a person obtain a basic permit in order to engage in certain businesses, such as importing into the United States distilled spirits, wine or malt beverages; distilling spirits or producing wine; or purchasing for resale at wholesale distilled spirits, wine or malt beverages.

Affected Public: Businesses or other for-profits.

Estimated Annual Burden Hours: 6,575.

OMB Number: 1513-0023.

Type of Review: Revision of a currently approved collection.

Title: Environmental Information and Supplemental Information on Water Quality Consideration under 33 U.S.C. 1341(a).

Form: TTB F 5000.29, TTB F 5000.30.

Abstract: TTB uses TTB Form 5000.29 to comply with its responsibilities under 42 U.S.C. 4332, which is a provision of the National Environmental Policy Act. In general, this form is used to determine whether operations proposed by a person in connection with an application for a permit will have a significant environmental impact and, as a result, whether a formal environmental impact statement or an environmental permit is necessary for a proposed operation. TTB uses TTB Form 5000.30 to comply with its responsibilities under 33 U.S.C. 1341, which is a provision of the Clean Water Act. TTB F 5000.30 is used to make a determination as to whether a certification or waiver by the applicable State Water Quality Agency is required under Section 21 of the Federal Water Pollution Control Act, as amended by the Clean Water Act (33 U.S.C. 1341(a)). Manufacturers that discharge a solid or liquid effluent into navigable waters submit this form.

Affected Public: Businesses or other for-profits.

Estimated Annual Burden Hours: 2,115.

OMB Number: 1513-0047.

Type of Review: Extension of a currently approved collection.

Title: Distilled Spirits Records (TTB REC 5110/01) and Monthly Report of Production Operations.

Form: TTB F 5110.40.

Abstract: The information collected is used to account for proprietor's tax liability and adequacy of bond coverage, for protection of the revenue. The information also provides data to analyze trends in the industry, plan efficient allocation of field resources, and compile statistics for government economic analysis.

Affected Public: Businesses or other for-profits.

Estimated Annual Burden Hours: 3,600.

OMB Number: 1513-0048.

Type of Review: Extension of a currently approved collection.

Title: Registration of Distilled Spirits Plants and Miscellaneous Requests and Notices and Distilled Spirits Plans.

Form: TTB F 5110.41.

Abstract: The information provided by the applicant assists TTB in determining the eligibility of the applicant to engage in certain operations and is needed to register the distilled spirits plant. This form is used by persons who wish to establish distilled spirits plant operations.

Affected Public: Businesses or other for-profits.

Estimated Annual Burden Hours: 4,471.

Brenda Simms,
Treasury PRA Clearance Officer.

[FR Doc. 2014-25951 Filed 10-30-14; 8:45 am]

BILLING CODE 4810-31-P